DEPARTMENT OF HOUSING AND URBAN DEVELOPMENT

24 CFR Parts 888, 982, 983 and 985

[Docket No. FR-6092-N-02]

RIN 2577-AD06

Housing Opportunity Through Modernization Act of 2016—Housing Choice Voucher (HCV) and Project-Based Voucher Implementation; Additional Streamlining Changes; Extension of Comment Period

AGENCY: Office of the Assistant Secretary for Public and Indian Housing, HUD.

ACTION: Proposed rule; extension of comment period.

SUMMARY: On October 8, 2020, HUD published in the Federal Register a notice of proposed rulemaking entitled “Housing Opportunity through Modernization Act of 2016: Housing Choice Voucher and Project-Based Voucher Implementation; Additional Streamlining Changes”, proposing comprehensive amendments to the regulations governing the Housing Choice Voucher (HCV) and Project-Based Voucher (PBV) programs, largely in response to the enactment of the Housing Opportunity Through Modernization Act (HOTMA). The proposed rule provided for a 60-day comment period, which would have ended December 7, 2020. HUD has determined that a 30-day extension of the comment period, until January 6, 2021, is appropriate. This additional time will allow interested persons additional time to analyze the proposal and prepare their comments.

DATES: The comment period for the proposed rule published on October 8, 2020, at 85 FR 63664, is extended. Comments should be received on or before January 6, 2021.

ADDRESSES: Interested persons are invited to submit comments regarding this proposed rule. Copies of all comments submitted are available for inspection and downloading at www.regulations.gov. To receive consideration as public comments, comments must be submitted through one of two methods, specified below. All submissions must refer to the above docket number and title.

1. Electronic Submission of Comments. Interested persons may submit comments electronically through the Federal eRulemaking Portal at www.regulations.gov. HUD strongly encourages commenters to submit comments electronically. Electronic submission of comments allows the commenter maximum time to prepare and submit a comment, ensures timely receipt by HUD, and enables HUD to make them immediately available to the public. Comments submitted electronically through the www.regulations.gov website can be viewed by other commenters and interested members of the public. Commenters should follow the instructions provided on that site to submit comments electronically.

2. Submission of Comments by Mail. Comments may be submitted by mail to the Regulations Division, Office of General Counsel, Department of Housing and Urban Development, 451 7th Street SW, Room 10276, Washington, DC 20410 0500.

FOR FURTHER INFORMATION CONTACT: Email HOTMAquestions@hud.gov with your questions about this proposed rule.

SUPPLEMENTARY INFORMATION: On October 8, 2020, at 85 FR 63664, HUD published a notice of proposed rulemaking entitled “Housing Opportunity through Modernization Act of 2016: Housing Choice Voucher and Project-Based Voucher Implementation; Additional Streamlining Changes”, proposing comprehensive amendments to the regulations governing the Housing Choice Voucher (HCV) and Project-Based Voucher (PBV) programs, in response to the enactment of the Housing Opportunity Through Modernization Act (HOTMA). While the proposed rule had a 60-day comment period, HUD has received feedback from multiple stakeholders that additional time is needed to adequately review this lengthy and complex rule. Therefore, HUD is extending the deadline for comments for an additional 30 days.

R. Hunter Kurtz,
Assistant Secretary for Public and Indian Housing.

[FR Doc. 2020-25119 Filed 11-10-20; 8:45 am]

BILLING CODE 4210-67-P